DEPARTMENT OF AGRICULTURE

Foreign Agricultural Service

Agricultural Policy Advisory Committee; and the Agricultural Technical Advisory Committees for Trade; Renewal and Nominations; Correction

AGENCY: Foreign Agricultural Service, USDA.

ACTION: Notice; correction.

SUMMARY: The Foreign Agricultural Service published a notice on April 6, 2015 that gave notice of the intent to renew the Agricultural Policy Advisory Committee for Trade and the six Agricultural Technical Advisory Committees for Trade. Nominations for persons to serve on these seven committees were requested. The document contained four minor errors.

FOR FURTHER INFORMATION CONTACT: Josephine Liu, 202-720-9292.

Corrections

In the Federal Register of April 6, 2015, in FR DOC 2015-07499:

—On page 18352, first column, correct the “DATES” caption by removing the parenthetical phrase “(i.e., CY 2016)”;

—On page 18352, second column, correct the second paragraph under “Re-Chartering of Existing Committees” by deleting the phrase “Show citation box”;

—On page 3 delete this sentence “1974, Congress established a private sector advisory committee system to ensure that U.S. trade policy and negotiation objectives adequately reflect U.S. commercial and economic interests.”;

—On page 18353, second column, in the paragraph titled “Nominations,” replace the sentence “If applicable, a sponsor letter on the non-Federal governmental entity's letterhead that contains a brief description of the manner in which international trade affects the entity and why the applicant should be considered for membership.” and with the following: “If applicable, the application should include a sponsor letter on the non-Federal governmental entity's letterhead containing a brief description of the manner in which international trade affects the entity and why the applicant should be considered for membership.”

Dated: April 6, 2015.
Josephine Liu,
Federal Register Liaison.

[FR Doc. 2015-08158 Filed 4-9-15; 8:45 am]

BILLING CODE P